DELAWARE RIVER BASIN COMMISSION

Notice of Public Hearing and Business Meeting, February 9 and March 9, 2022

Notice is hereby given that the Delaware River Basin Commission will hold a public hearing on Wednesday, February 9, 2022. A business meeting will be held the following month on Wednesday, March 9, 2022. Both the hearing and the business meeting are open to the public. Both meetings will be conducted remotely. Details about the remote platform and how to attend will be posted on the Commission's website, www.drbc.gov, no later than January 28, 2022.

Public Hearing. The Commission will conduct the public hearing remotely on February 9, 2022, commencing at 1:30 p.m. Hearing items will include draft dockets for withdrawals, discharges, and other projects that could have a substantial effect on the basin's water resources.

The list of projects scheduled for hearing, including project descriptions, will be posted on the Commission's website, www.drbc.gov, in a long form of this notice at least ten days before the hearing date.

Written comments on matters scheduled for hearing on February 9, 2022 will be accepted through 5:00 p.m. on February 14, 2022.

The public is advised to check the Commission's website periodically during the ten days prior to the hearing date, as items scheduled for hearing may be postponed if additional time is needed to complete the Commission's review. Items also may be added up to ten days prior to the hearing date. In reviewing docket descriptions, the public is asked to be aware that the details of projects may change during the Commission's review, which is ongoing.

Public Meeting. The public business meeting on March 9, 2022 will begin at 10:30 a.m. and will include: Adoption of the Minutes of the Commission's December 8, 2021 business meeting; announcements of upcoming meetings and events; a report on hydrologic conditions; reports by the Executive Director and the Commission's General Counsel; and consideration of any items for which a hearing has been completed or is not required.

After all scheduled business has been completed and as time allows, the business meeting will be followed by up to one hour of Open Public Comment, an opportunity to address the Commission on any topic concerning management of the Basin's water resources outside the context of a duly noticed, on-the-record public hearing.

There will be no opportunity for additional public comment for the record at the March 9, 2022 business meeting on items for which a hearing was completed on February 9, 2022 or a previous date. Commission consideration on March 9, 2022 of items for which the public hearing is closed may result in approval of the item (by docket or resolution) as proposed, approval with changes, denial, or deferral. When the Commissioners defer an action, they may announce an additional period for written comment on the item, with or without an additional hearing date, or they may take additional time to consider the input they have already received without requesting further public input. Any deferred items will be considered for action at a public meeting of the Commission on a future date.

Advance Sign-Up for Oral Comment. Individuals who wish to comment on the record during the public hearing on February 9, 2022 or to address the Commissioners informally during the Open Public Comment portion of the meeting on March 9, 2022 as time allows, are asked to sign up in advance through EventBrite. Links to EventBrite for the public hearing and the business meeting are posted at www.drbc.gov. For assistance, please contact Ms. Patricia Hausler of the Commission staff, at patricia.hausler@drbc.gov.

Addresses for Written Comment. Written comment on items scheduled for hearing may be made through the Commission's web-based comment system, a link to which is provided at www.drbc.gov. Use of the web-based system ensures that all submissions are captured in a single location and their receipt is acknowledged. Exceptions to the use of this system are available based on need, by writing to the attention of the Commission Secretary, DRBC, P.O. Box 7360, 25 Cosey Road, West Trenton, NJ 08628-0360. For assistance, please contact Patricia Hausler at patricia.hausler@drbc.gov.

Accommodations for Special Needs. Individuals in need of an accommodation as provided for in the Americans with Disabilities Act who wish to attend the meeting or hearing should contact the Commission Secretary directly at 609-883-9500 ext. 203 or through the Telecommunications Relay Services (TRS) at 711, to discuss how we can accommodate your needs.

Additional Information, Contacts. Additional public records relating to hearing items may be examined at the Commission's offices by appointment by contacting Denise McHugh, 609-883-9500, ext. 240. For other questions concerning hearing items, please contact David Kovach, Project Review Section Manager at 609-883-9500, ext. 264.

Authority. Delaware River Basin Compact, Public Law 87-328, Approved September 27, 1961, 75 Statutes at Large, 688, sec. 14.4.

Dated: January 19, 2022.
Pamela M. Bush,
Commission Secretary and Assistant General Counsel.

[FR Doc. 2022-01412 Filed 1-24-22; 8:45 am]

BILLING CODE P